DEPARTMENT OF JUSTICE

Notice of Lodging of Proposed Modified Consent Decree Under the Clean Water Act

On September 19, 2019, the Department of Justice lodged a proposed modified consent decree with the United States District Court for the Western District of Pennsylvania in the lawsuit entitled United States, Pennsylvania Department of Environmental Protection, and Allegheny County Health Department v. Allegheny County Sanitary Authority (“Alcosan”), Civil Action No. 2:07-cv-00737.

The proposed modified consent decree would replace a consent decree entered by the court on January 24, 2008, which resolved claims under Sections 301 and 402 of the Clean Water Act, 33 U.S.C. 1311, 1342, that Alcosan violated the Clean Water Act by discharging pollutants into waters of the United States without a permit, and by discharging pollutants in a manner not contemplated by its National Pollutant Discharge Elimination System (“NPDES”) permit. Those violations occurred primarily during wet weather, which causes Alcosan's sewer system to overload and to discharge through a network of outfalls that run along three main rivers in the area—the Allegheny, Ohio, and Monogahela Rivers. Alcosan paid a civil penalty to the Plaintiffs of $1.2 million and completed supplemental environmental projects under the 2008 consent decree. The proposed modified consent decree, among other things: (1) Approves a long-term plan under which Alcosan will reduce sewer overflows; (2) extends the time period for Alcosan to implement the long-term plan; and (3) incorporates additional opportunities to modify the long-term plan.

The publication of this notice opens a period for public comment on the proposed modified consent decree. Comments should be addressed to the Assistant Attorney General, Environment and Natural Resources Division, and should refer to United States v. Alcosan, D.J. Ref. No. 90-5-1-1-4414. All comments must be submitted no later than sixty (60) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed modified consent decree may be examined and downloaded at this Justice Department website: https://www.justice.gov/enrd/consent-decrees. We will provide a paper copy of the proposed modified consent decree upon written request and payment of reproduction costs. Please mail your request and payment to: Consent Decree Library, U.S. DOJ—ENRD, P.O. Box 7611, Washington, DC 20044-7611.

Please enclose a check or money order for $74.25 (25 cents per page reproduction cost) payable to the United States Treasury. For a paper copy without the exhibits and signature pages, the cost is $28.75.

Jeffrey Sands,
Assistant Section Chief, Environmental Enforcement Section, Environment and Natural Resources Division.

[FR Doc. 2019-21421 Filed 10-1-19; 8:45 am]

BILLING CODE 4410-15-P